DEPARTMENT OF THE INTERIOR

Bureau of Land Management

[LLNML00000 L16100000.DP0000]

Correction to Notice of Intent To Prepare an Amendment to the Mimbres Resource Management Plan (RMPA), and Associated Environmental Assessment (EA), Las Cruces District Office, NM

AGENCY: Bureau of Land Management (BLM), Interior.

ACTION: Correction to Notice of Intent.

SUMMARY: This document contains corrections to the Notice of Intent published in the Federal Register [73 FR No. 240, pages 75764-75765] on Friday, December 12, 2008, under the DATES and SUPPLEMENTARY INFORMATION.

DATES: The heading, the 30-day public scoping period to identify relevant issues has been extended to February 23, 2009.

SUPPLEMENTARY INFORMATION: The heading for the legal description for T. 17 S., R. 12 W. should read:

New Mexico Principal Meridian

T. 17 S., R. 12 W.,

Secs 3, 4, 9, 10, 15, 16, 20, 21, 22, 23, 24, and 31.

FOR FURTHER INFORMATION CONTACT: Jennifer Montoya, Planning and Environmental Coordinator, at the Bureau of Land Management, Las Cruces District Office, 1800 Marquess Street, Las Cruces, New Mexico; telephone (575) 525-4316; or e-mail at Jennifer_Montoya@nm.blm.gov.

Leticia Lister,
Acting District Manager.

[FR Doc. E9-1600 Filed 1-26-09; 8:45 am]

BILLING CODE 4310-VC-P